NUCLEAR REGULATORY COMMISSION

[NRC-2012-0129; Docket No. 50-423]

Notice of Withdrawal of Application for Amendment to Facility Operating License; Dominion Nuclear Connecticut, Inc., Millstone Power Station, Unit 3

The U.S. Nuclear Regulatory Commission (NRC or the Commission) has granted the request of Dominion Nuclear Connecticut, Inc. (DNC or the licensee) to withdraw its July 5, 2011, application for proposed amendment to Facility Operating License No. NPF-49 for the Millstone Power Station, Unit 3 (MPS3), located in town of Waterford, Connecticut.

The proposed amendment would relocate certain Technical Specification (TS) surveillance frequencies to a licensee-controlled program by adopting Technical Specification Task Force (TSTF)-425, Revision 3, “Relocate Surveillance Frequencies of Licensee Control—Risk-Informed Technical Specification Task Force Initiative 5b.” The proposed change would also add a new program, the Surveillance Frequency Control Program, to the TSs, in accordance with TSTF-425. The Commission had previously issued a Notice of Consideration of Issuance of Amendment published in the Federal Register on November 15, 2011 (76 FR 70771). However, by letter dated May 8, 2012, the licensee withdrew the proposed change.

For further details with respect to this action, see the application for amendment dated July 5, 2011, as supplemented by letter dated September 12, 2011, and the licensee's letter dated May 8, 2012, which withdrew the application for license amendment. Documents may be examined, and/or copied for a fee, at the NRC's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 29th day of May 2012.
For the Nuclear Regulatory Commission.
James Kim,
Project Manager, Plant Licensing Branch I-1, Division of Operating Reactor Licensing, Office of Nuclear Reactor Regulation.

[FR Doc. 2012-13623 Filed 6-4-12; 8:45 am]

BILLING CODE 7590-01-P